SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before May 2, 2022.

ADDRESSES: Send all comments to, Cynthia Pitts, Office of Disaster Assistance, Small Business Administration.

FOR FURTHER INFORMATION CONTACT: Cynthia Pitts, Office of Disaster Assistance, cynthia.pitts@sba.gov, (202) 205-7570 or Curtis B. Rich, Management Analyst, 202-205-7030, curtis.rich@sba.gov.

SUPPLEMENTARY INFORMATION: The information will be collected from borrowers to determine the amount of insurance proceeds received, and ultimately, the amount of eligible loan amount.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-XXXX.

(1) Title: Assignment of Insurance Proceeds.

Description of Respondents: Applicants for Disaster loans.

Form Number: 2505.

Total Estimated Annual Responses: 23,748.

Total Estimated Annual Hour Burden: 11,874.

Curtis Rich,
Management Analyst.

[FR Doc. 2022-04451 Filed 3-2-22; 8:45 am]

BILLING CODE 8026-03-P